EXPORT-IMPORT BANK

[Public Notice 97]

Agency Information Collection Activities: Proposed Collection; Comment Request

AGENCY: Export-Import Bank of the U.S.

ACTION: Notice and request for comments.

SUMMARY: The Export-Import Bank, as a part of its continuing effort to reduce paperwork and respondent burden, invites the general public and other Federal agencies to comment on the proposed information collection, as required by the Paperwork Reduction Act of 1995.

DATES: Written comments should be received on or before April 9, 2007 to be assured of consideration.

ADDRESSES: Direct all comments and requests for additional information to Solomon Bush, Export-Import Bank of the U.S., 811 Vermont Avenue, NW., Washington, DC 20571, (202) 565-3353, solomon.bush@exim.gov.

SUPPLEMENTARY INFORMATION:

Titles and Form Numbers:

Application for Letter of Credit Insurance Policy, EIB 92-34.

Beneficiary Certificate and Agreement, EIB 92-37.

Short-Term Multi-Buyer Export Credit Insurance Policy Application, EIB 92-50.

Broker Registration Form, EIB 92-79.

OMB Number: 3048-0009.

Type of Review: Extension of expiration date.

Need and Use: The information requested enables the applicant to provide Ex-Im Bank with the information necessary to obtain legislatively required assurance of repayment and fulfills other statutory requirements. The forms encompass a variety of export credit insurance policies.

Affected Public: The forms affect all entities involved in the export of U.S. goods and services, including exporters, banks, insurance brokers and non-profit or state and local governments acting as facilitators.

| EIB 92-34 | EIB 92-37 | EIB 92-50 | EIB 92-79
Estimated annual respondents | 10 | 10 | 368 | 50.
Estimated time per respondent | 1 Hour | 20 Minutes | 1 Hour | 2 Hours.
Estimated annual burden | 10 Hours | 3.3 Hours | 368 Hours | 100 Hours.
Frequency of reporting or use | Applications submitted one time.

Dated: February 1, 2007.
Solomon Bush,
Agency Clearance Officer.

[FR Doc. 07-539 Filed 2-6-07; 8:45 am]

BILLING CODE 6690-01-M